DEPARTMENT OF TRANSPORTATION

Federal Highway Administration

Environmental Impact Statement: City of Baton Rouge and Unincorporated Parts of East Baton Rouge Parish, LA

AGENCY: Federal Highway Administration (FHWA), DOT.

ACTION: Withdrawal of notice of intent.

SUMMARY: The FHWA is issuing this notice to advise the public that the Notice of Intent to prepare an Environmental Impact Statement (EIS) for the proposed highway project in East Baton Rouge Parish, Louisiana has been withdrawn. The Louisiana Department of Transportation of Development (LDOTD) is not planning to pursue to the project as proposed.

FOR FURTHER INFORMATION CONTACT: William C. Farr, Program Operations Manager, 5304 Flanders Drive, Suite A, Baton Rouge, LA 70808, Telephone: (225) 757-7615, or Ms. Michele Deshotels, Environmental Impact Program Manager, LDOTD, Section 28, P.O. Box 94245, Baton Rouge, LA 70804-9245, Telephone: 225-248-4192.

SUPPLEMENTARY INFORMATION: A Notice of Intent was published (63 FR 16616) to prepare an EIS on a proposal to improve Interstate 10 through Baton Rouge, Louisiana. The proposed project included the construction of an additional lane in the east and west bound directions in order to provide an eight-lane freeway facility, interchange improvements to address safety and capacity problems, as well as frontage road additions and extensions. It would also have included congestion management measures consisting of ramp metering, incident management, park and ride lots, transit improvements and demand management strategies.

The proposed project began at the eastern end of the Mississippi River Bridge and extended eastward along Interstates 10 and 12 to points immediately east of the interchanges with Essen Lane. The proposed construction was approximately 11.2 kilometers (7 miles) long from the western terminus to the eastern terminus of Interstate 10 and 9.7 kilometers (6 miles) from Interstate 110 to Interstate 12.

Public involvement activities completed included neighborhood meetings, steering committee activities, newsletters and public meetings which were used to obtain input from citizens who may have been affected by the proposal. All of the neighborhood meetings were open to all citizens and advertised in the Baton Rouge media to solicit general public participation.

To ensure that a full range of issues related to this proposed action are addressed and all significant issues identified comments and suggestions were invited from all interested parties to be directed to the FHWA at the address provided above.

(Catalog of Federal Domestic assistance Program Number 20.205 Highway Planning and Construction. The regulations Implementing Executive Order 12372 regarding inter-governmental consultation on federal program and activities apply to this program)
Issued on March 26, 2001.
William A. Sussmann,
Division Administrator, Baton Rouge, LA.

[FR Doc. 01-8198 Filed 4-3-01; 8:45 am]

BILLING CODE 4910-22-M